FEDERAL MARITIME COMMISSION

46 CFR Parts 520 and 532

[Docket No. 10-03]

NVOCC Negotiated Rate Arrangements; Notice of Public Meeting Schedule

AGENCY: Federal Maritime Commission.

ACTION: Proposed rulemaking; notice of public meeting.

SUMMARY: On April 29, 2010, the Federal Maritime Commission issued a Notice of Proposed Rulemaking (NPRM), which appeared in the Federal Register on May 7, 2010, proposing a new exemption for non-vessel-operating common carriers agreeing to negotiated rate arrangements from certain provisions and requirements of the Shipping Act of 1984 and certain provisions and requirements of the Commission's regulations. The Commission will hold a public meeting to receive oral comments and allow participants to field questions from the Commission concerning the proposed rule.

DATES: The Commission will hold a public meeting on May 24, 2010. Written comments are due by June 4, 2010.

ADDRESSES: Submit all written comments (original and 15 copies) to: Karen V. Gregory, Secretary, Federal Maritime Commission, 800 North Capitol Street, NW., Room 1046, Washington, DC 20573-0001, (202) 523-5725.

FOR FURTHER INFORMATION CONTACT: Karen V. Gregory, Secretary; (202) 523-5725. E-mail: secretary@fmc.gov.

SUPPLEMENTARY INFORMATION: The Commission has determined to hold a public meeting on May 24, 2010 to receive oral comments and allow participants to field questions from the Commission concerning the Notice of Proposed Rulemaking published May 7, 2010 (75 FR 25150), regarding NVOCC Negotiated Rate Arrangements. The Commission has established the following allotment of time and order of presentation. The meeting will convene at 1:30 p.m., May 24, 2010, in the Commission's Main Hearing Room 100, 800 North Capitol Street, NW., Washington, DC 20573.

The Federal Maritime Commission welcomes written comments for the record. All written comments submitted in this proceeding (an Original and 15 copies) including written statements presented at the May 24th meeting are due by Friday, June 4, 2010. Written submissions, except for confidential business information, will be available for public inspection.

Panel I
Participant(s) | Company | Time allotment (in minutes)
Edward D. Greenberg, Attorney for NCBFAA | National Customs Brokers & Forwarders Association of America, Inc. | 10
Paulette Kolba, VP Ocean Compliance Panalpina, Inc. | Pantainer Ltd. | 10
Robert J. Schott, President | SEASCHOTT, Division of AIRSCHOTT, Inc. | 10
Robert A. Voltmann, President & CEO | Transportation Intermediaries Association | 10

Panel II
Participant(s) | Company | Time allotment (in minutes)
Neil Barni, President | CargoSphere | 10
James E. Devine, President | Distribution Publications, Inc. | 10
Stan Levy, President | Stan Levy Consulting | 10
Gerard P. Wardell, President; Laurie A. Olson, VP Tariff Operations | RateWave Tariff Services, Inc. | 10

Karen V. Gregory,
Secretary.

[FR Doc. 2010-12299 Filed 5-20-10; 8:45 am]

BILLING CODE P